DEPARTMENT OF ENERGY

Office of Fossil Energy; Methane Hydrate Advisory Committee

AGENCY: Department of Energy.

ACTION: Notice of open meeting.

SUMMARY: This notice announces a meeting of the Methane Hydrate Advisory Committee. Federal Advisory Committee Act (Public Law 92-463, 86 Stat. 770) requires notice of these meetings be announced in the Federal Register.

DATES: Tuesday, September 21, 2004, 8 a.m. to 5 p.m. and Wednesday, September 22, 2004, 8 a.m. to 2:45 p.m.

ADDRESSES: Sea Lodge, 8110 Camino del Oro, La Jolla, California 92037.

FOR FURTHER INFORMATION CONTACT: Edith Allison, U.S. Department of Energy, Office of Oil and Natural Gas, Washington, DC 20585. Phone: (202) 586-1023.

SUPPLEMENTARY INFORMATION: Purpose of the Committee: The purpose of the Methane Hydrate Advisory Committee is to provide advice on potential applications of methane hydrate to the Secretary of Energy; assist in developing recommendations and priorities for the Department of Energy methane hydrate research and development program; and submit to Congress a report on the anticipated impact on global climate change from methane hydrate formation, methane hydrate degassing, and consumption of natural gas produced from methane hydrates.

Tentative Agenda:

Tuesday, September 21

Morning

• Welcome and Introductions—James Slutz, Deputy Assistant Secretary for the Office of Oil and Natural Gas

• Appointment of Committee Chairman

• Briefings on Methane Hydrate Research Accomplishments—Alaska, Gulf of Mexico, and International, and Laboratory and Global Climate Change Studies.

Afternoon

• Presentation and Discussion—National Research Council Report: “Review of Activities Authorized Under the Methane Hydrate Research and Development”

• Report of Hedberg Conference Session on R&D Issues and Needs

• Discussion of Future Research Directions.

Ten minutes will be allowed for questions and public comment at the end of each presentation.

Wednesday, September 22

Morning

• Discussion of Draft Strategic Plan.

Afternoon

• Discussion of additional recommendations to Department of Energy and to Congress regarding the reauthorization of Methane Hydrate R&D Act of 2000

• Adjourn at 3 p.m. followed by optional tour of Scripps Institution of Oceanography.

Public Participation: The meeting is open to the public. The Chairman of the Committee will conduct the meeting to facilitate the orderly conduct of business. If you would like to file a written statement with the Committee, you may do so either before or after the meeting. If you would like to make oral statements regarding any of the items on the agenda, you should contact Edith Allison at the address or telephone number listed above. You must make your request for an oral statement at least five business days prior to the meeting, and reasonable provisions will be made to include the presentation on the agenda. Public comment will follow the 10 minute rule.

Minutes: The minutes of this meeting will be available for public review and copying within 60 days at the Freedom of Information Public Reading Room, 1E-190, Forrestal Building, 1000 Independence Avenue, SW., Washington, DC, between 9 a.m. and 4 p.m., Monday through Friday, except Federal holidays. Transcripts will be available by request.

Issued in Washington, DC on August 11, 2004.
Rachel M. Samuel,
Deputy Advisory Committee Management Officer.

[FR Doc. 04-18666 Filed 8-13-04; 8:45 am]

BILLING CODE 6450-01-P